DEPARTMENT OF THE INTERIOR

National Park Service

Bison Brucellosis Vaccine, Environmental Impact Statement, Yellowstone National Park, Wyoming

AGENCY: National Park Service, Department of Interior.

ACTION: Notice of Intent to Prepare an Environmental Impact Statement to evaluate a park-wide program for remote delivery of a brucellosis vaccine to bison in Yellowstone National Park.

SUMMARY: In accordance with section 102 (2)(C) of the National Environmental Policy Act of 1969 (42 U.S.C. 4321 et seq.), the National Park Service (NPS) is preparing an Environmental Impact Statement (EIS) for a remote delivery brucellosis vaccination program for bison in Yellowstone National Park. Remote delivery in this proposed action is distinguished from hand delivery that occurs in penned situations at or near Yellowstone National Park's boundaries that is authorized under a 2000 Record of Decision (ROD). The purpose of and need for the action is to implement a program to deliver a suitable vaccine to wild and free ranging bison without capturing and handling individual animals. A brucellosis vaccine would be delivered to untested bison within the park to lower the percentage of the Yellowstone bison population infected with brucellosis. This planning effort will result in a decision determining whether or not to implement remote delivery of a vaccine to free-ranging bison inside Yellowstone National Park. The alternatives to be considered include no-action, and an adaptive management strategy to implement a program using currently available technology while pursuing new research and development of improved techniques. The major issues to resolve include: (1) The effectiveness and safety in wildlife of a remote delivery system, (2) The effectiveness and safety of a vaccine for bison, (3) The human health and safety of park staff and visitors, and (4) The visitor experience.

A scoping brochure has been prepared that details the background and issues identified to date. Copies of that information may be obtained by contacting the Bison Ecology and Management Office, POB 168, Yellowstone National Park, Wyoming, 82190-0168 or by viewing the brochure at the Yellowstone National Park Web site http:/www.nps.gov/yell.

DATES: The National Park Service will accept comments from the public for 30 days from the date this notice is published in the Federal Register.

ADDRESSES: Information will be available for public review and comment at the Yellowstone Center for Resources, Yellowstone National Park, P.O. Box 168, Yellowstone National Park, Wyoming, 82190-0168 (307) 344-2393.

FOR FURTHER INFORMATION CONTACT: Bison Ecology and Management Office, Yellowstone National Park, P.O. Box 168, Yellowstone National Park, Wyoming, 82190-0168. Telephone: 307-344-2505.

SUPPLEMENTARY INFORMATION: In 2000, the NPS, in collaboration with the State of Montana, the USDA Animal and Plant Health Inspection Service (APHIS), and USDA National Forest Service, developed a final Interagency Bison Management Plan (IBMP). The NPS evaluated alternatives for the IBMP in an EIS, which focused on a study area including the park and adjacent areas in Montana. The purpose of the IBMP is to maintain a free-ranging population of bison and address the risk of brucellosis transmission to cattle to protect the economic interests and viability of the livestock industry in Montana. The Record of Decision (ROD) for the IBMP directed the partner agencies to vaccinate bison at capture facilities when a vaccine is shown to be safe according to the criteria defined in the IBMP. The ROD also directed the NPS to develop an in-park remote vaccination program for free ranging bison when a safe and effective vaccine becomes available and when a safe and effective remote delivery system is developed to further reduce the risk of transmission of brucellosis from bison to cattle.

The environmental consequences of a park-wide program for remote delivery of vaccine to free-ranging bison were not analyzed in the final EIS for the IBMP. Research has shown that a safe and effective vaccine using a safe and effective delivery system now exists. Consequently, the NPS is preparing an EIS to analyze alternatives for a remote delivery program for administering brucellosis vaccine to bison within the entirety of Yellowstone National Park. To ensure that the full range of issues related to this proposed action are identified and taken into account, all interested individuals, organizations, and agencies are invited to provide comments through attendance at public scoping meetings, submission of comments through access to the Yellowstone National Park Web site, or submission of written comments mailed directly to the Bison Ecology and Management Office at Yellowstone National Park during the scoping period. In addition, you may hand deliver comments to receptionists at the Superintendent's office, the park planning office, and the Yellowstone Center for Resources, all located in the headquarters area at Mammoth, Wyoming.

The public is advised that individual commentor names and addresses may be included as part of the public record. Names and addresses of individuals submitting comments will be available for public review during regular business hours. Any person, business or organization wishing to have their name and other information withheld from the public record must state this prominently at the beginning of any correspondence or comment. The request will be honored to the extent allowable by law. All submissions from organizations or businesses, and from individuals identifying themselves as representatives or officials of organizations or businesses, will be placed in the public record and will be made available for public inspection in their entirety.

Dated: June 17, 2004.
Stephen P. Martin,
Regional Director, Intermountain Region.

[FR Doc. 04-17586 Filed 8-2-04; 8:45 am]

BILLING CODE 4312-CT-P